ENVIRONMENTAL PROTECTION AGENCY

[EPA-HQ-OPP-2007-0435; FRL-8151-3]

Ethyl Parathion; Final Determination Not to Initiate Special Review and Tributyltin Antifoulants; Final Determination to Terminate Special Review

AGENCY: Environmental Protection Agency (EPA).

ACTION: Notice.

SUMMARY: This notice announces the Agency's decision not to initiate a Special Review of Ethyl Parathion and its decision to terminate the Special Review of Tributyltin (TBT) used in antifouling paints. The Agency has taken these actions because all pesticide registrations of ethyl parathion and all TBT antifouling paints are canceled. These decisions were proposed in the Federal Register on August 8, 2007 and the Agency received no comments in response to these proposed decisions.

FOR FURTHER INFORMATION CONTACT: Richard P. Dumas, Special Review and Reregistration Division (7508P), Office of Pesticide Programs, Environmental Protection Agency, 1200 Pennsylvania Ave., NW., Washington, DC 20460-0001; telephone number: (703) 308-8015; fax number: (703) 308-8005; e-mail address: dumas.richard@epa.gov.

SUPPLEMENTARY INFORMATION:

I. General Information

A. Does this Action Apply to Me?

You may be potentially affected by this action if you as a member of the general public or a stakeholder such as environmental, human health, and agricultural advocates; the chemical industry; pesticide users; and members of the public interested in the sale, distribution, or use of pesticides. This listing is not intended to be exhaustive, but rather provides a guide for readers regarding entities likely to be affected by this action. Other types of entities not listed in this unit could also be affected. If you have any questions regarding the applicability of this action to a particular entity, consult the person listed under FOR FURTHER INFORMATION CONTACT.

B. How Can I Get Copies of this Document and Other Related Information?

1. Docket. EPA has established a docket for this action under docket identification (ID) number EPA-HQ-OPP-2007-0435. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

1. Ethyl parathion. On May 16, 1986, as required by 40 CFR 154.21, EPA provided the registrants a preliminary notification that EPA was considering initiating a Special Review of Ethyl Parathion. The basis for the concern was acute toxicity to humans from oral and dermal exposure and to birds from dietary and dermal exposures. In 1991, to address the human health concerns, the registrants voluntarily canceled many uses of ethyl parathion and imposed several mitigation measures for the remaining nine uses.

In 2002, all products being manufactured for sale in the U.S. were voluntarily canceled. However, four ethyl parathion product registrations held by Drexel Chemical Company that had not been manufactured for several years were not included in the 2002 cancellation actions. On March 16, 2005, Drexel Chemical Company requested voluntary cancellation for the four registrations. The cancellation of the four remaining ethyl parathion product registrations was effective on December 13, 2006.

On August 8, 2007, EPA proposed its decision not to initiate a Special Review of Ethyl Parathion. The proposal was made because there are no longer any pesticide products registered containing ethyl parathion, and thus the risk concerns have been mitigated. The public was provided an opportunity to comment on the proposal and no comments were received. Pursuant to 40 CFR 154.25, this notice announces the Agency's final determination not to initiate a Special Review of Ethyl Parathion.

2. Tribuyltin antifoulants. The Special Review of Tribuyltin Antifoulants was initiated on January 8, 1986. Studies indicated toxicity to non-target marine and fresh water organisms at low levels, in some cases, at the parts per trillion level. On October 4, 1988, EPA partially concluded the Special Review of Tributyltin Antifoulants (53 FR 39022). The Special Review was concluded except for the issue of the release rates of TBT from antifoulant paints into the environment. Since that time, all antifouling paint products containing TBT have been voluntarily canceled. The last cancellation was effective on December 1, 2005. Under 40 CFR 154.31, the Administrator must provide his rationale for terminating a Special Review and provide an opportunity for comment. On August 8, 2007 EPA proposed to terminate the Special Review of Tributytin Anitfoulants because there are no remaining pesticide registrations for the antifouling paint use. The Agency received no comments in response to this proposal. Pursuant to 40 CFR 154.33, this notice announces the Agency's final determination to terminate the Special Review of Tributytin Antifoulants.

B. What is the Agency's Authority for Taking this Action?

A pesticide product may be sold or distributed in the United States only if it is registered or exempt from registration under the Federal Insecticide, Fungicide and Rodenticide Act (FIFRA) as amended (7 U.S.C. 136 et seq.). Before a product can be registered it must be shown that it can be used without causing “unreasonable adverse effects on the environment,” FIFRA section 3(c)(5). The term “unreasonable adverse effects on the environment” is defined in FIFRA section 2(bb) as “any unreasonable risk to man or the environment, taking into account the economic, social, and environmental costs and benefits of the use of any pesticide.” The burden of proving that a pesticide meets this standard for registration is, at all times, on the proponent of initial or continued registration. If at any time the Agency determines that a pesticide no longer meets this standard, the Administrator may cancel this registration under section 6 of FIFRA.

The Special Review process provides a mechanism to permit public participation in EPA's deliberations prior to issuance of any Notice of Final Determination describing the regulatory action which the Administrator has selected. The Special Review process, which was previously called the Rebuttable Presumption Against Registration (RPAR) process, is described in 40 CFR part 154, published in the Federal Register of November 25, 1985 (50 FR 49015). The purpose of this process is to determine whether some or all registrations of a particular active ingredient or ingredients meet the FIFRA standard for registration, or whether amendment of the terms and conditions of registration or cancellation of portions or all of the registrations is appropriate.

Prior to formal initiation of a Special Review, a preliminary notification is sent to registrants and applicants for registration pursuant to 40 CFR 154.21 announcing that the Agency is considering commencing a Special Review. Registrants and applicants for registration are allowed 30 days from receipt of the notification to comment on the Agency's proposal to commence a Special Review.

If the Agency determines, after issuance of a notification pursuant to 40 CFR 154.21, that it will not conduct a Special Review, it is required under 40 CFR 154.23(b) to issue a proposed decision to be published in the Federal Register. Subsequent to receipt and evaluation of comments on the Proposed Decision Not To Initiate a Special Review, pursuant to 40 CFR 154.25 the Administrator must publish in the Federal Register his final decision regarding whether or not to initiate a Special Review. That regulation requires that a period of not less than 30 days be provided for public comment on the Proposed Decision Not To Initiate a Special Review. The portion of this Notice concerning ethyl parathion is being issued pursuant to 40 CFR 154.25.

If the Agency determines, after issuance of a notification pursuant to 40 CFR 154.21, that it will initiate a Special Review, 40 CFR 154.23(c) requires the Administrator to publish a Notice of Special Review in the Federal Register. To conclude the Special Review after a Special Review has been initiated, 40 CFR 154.31 requires the Administrator to first publish a Notice of Preliminary Determination in the Federal Register. That regulation requires the Administrator to respond to all significant comments received on the Notice of Special Review and, among other things, make a preliminary determination of whether any of the applicable risk criteria have been satisfied. Finally, after receipt and evaluation of comments on the Notice of Preliminary Determination, 40 CFR 154.33 requires that the Administrator publish in the Federal Register a Notice of Final Determination, including the reasons for the determination. The portion of this Notice concerning the tributylin antifoulants is being issued pursuant to 40 CFR 154.33.

List of Subjects

Environmental protection, Pesticides and pests.

Dated: November 8, 2007.
James Jones,
Acting Assistant Administrator, Office of Prevention, Pesticides, and Toxic Substances.

[FR Doc. E7-22374 Filed 11-15-07; 8:45 am]

BILLING CODE 6560-50-S